ENVIRONMENTAL PROTECTION AGENCY

40 CFR Parts 51 and 52

[EPA-HQ-OAR-2003-0064; FRL-8233-4]

RIN 2060-AL75

Prevention of Significant Deterioration (PSD) and Nonattainment New Source Review (NSR): Debottlenecking, Aggregation, and Project Netting

AGENCY: Environmental Protection Agency (EPA).

ACTION: Notice of public hearing.

SUMMARY: The EPA is announcing a public hearing to be held on November 6, 2006, for the proposed rule on “Prevention of Significant Deterioration (PSD) and Nonattainment New Source Review (NSR): Debottlenecking, Aggregation, and Project Netting.” This rulemaking action was published in the Federal Register on September 14, 2006 and proposes to revise the regulations governing the NSR programs mandated by parts C and D of title I of the Clean Air Act. The public hearing will provide interested parties the opportunity to present data, views, or arguments concerning these proposed changes.

DATES: The public hearing will convene at 9 a.m. on November 6, 2006, and continue until 1 hour after the last registered speaker has spoken. People wishing to present oral testimony must pre-register by 5 p.m. on November 3, 2006. The EPA is willing to keep the public hearing open into the evening hours of November 6, 2006, if speakers are pre-registered by the registration deadline of 5 p.m. on November 3, 2006, and have registered to speak during evening hours. For updates and additional information on the public hearing, please check EPA's Web site for this rulemaking at http://www.epa.gov.nsr/.

ADDRESSES: The public hearing will be held at U.S. Environmental Protection Agency, 109 TW Alexander Drive, Research Triangle Park, North Carolina 27709, Building C, Classroom C112. Because this hearing is being held at U.S. Government facilities, everyone planning to attend the hearing should be prepared to show valid picture identification to the security staff in order to gain access to the meeting room. In addition, you will need to obtain a property pass for any personal belongings you bring with you. Upon leaving the building, you will be required to return this property pass to the security desk. No large signs will be allowed in the building, cameras may only be used inside the classroom and outside of the building, and demonstrations will not be allowed on Federal property for security reasons. Directions to the EPA Campus are available on the Internet at http://www.epa.gov/rtp/facilities/maindirections.htm, along with a map showing the area designated for visitor parking. From there, walk toward the main facility and enter the center building (by the U.S. and EPA flags).

FOR FURTHER INFORMATION CONTACT: If you would like to speak at the public hearing or have questions concerning the public hearing, please contact Ms. Pamela Long, U.S. Environmental Protection Agency, OAQPS, Air Quality Planning Division, (C504-03), Research Triangle Park, NC 27711, telephone (919) 541-0641, fax number (919) 541-5509, e-mail address long.pam@epa.gov.

Questions concerning the September 14, 2006, proposed rule should be addressed to Mr. David Svendsgaard, U.S. EPA, Office of Air Quality Planning and Standards, Air Quality Policy Division, (C504-03), Research Triangle Park, NC 27711, telephone number (919) 541-2380, e-mail at Svendsgaard.dave@epa.gov.

SUPPLEMENTARY INFORMATION: The September 14, 2006, proposed rule changes reflect EPA's consideration of the Agency's 2002 Report to the President and its associated recommendations as well as discussions with various stakeholders including representatives of environmental groups, State and local governments, and industry. It proposes to change how emissions from units upstream or downstream from the unit(s) undergoing a physical change or change in the method of operation are included in the calculation of an emissions increase for the project. It also proposes to clarify and codify our policy of when emissions increases from multiple projects are to be aggregated together to determine NSR applicability. Finally, it proposes to clarify how emissions decreases from a project may be included in the calculation to determine if a significant emissions increase will result from a project. The EPA expects that these proposed rule changes will improve implementation of the program by articulating and codifying principles for determining major NSR applicability that we currently address through guidance only.

Public hearing: The proposal for which EPA is holding the public hearing was published in the Federal Register on September 14, 2006, (71 FR 54235) and is available at: http://a257.g.akamaitech.net/7/257/2422/01jan20061800/edocket.access.gpo.gov/2006/pdf/E6-15248.pdf. The public hearing will provide interested parties the opportunity to present data, views, or arguments concerning the proposed rule. The EPA may ask clarifying questions during the oral presentations, but will not respond to the presentations at that time. Written statements and supporting information submitted during the comment period will be considered with the same weight as any oral comments and supporting information presented at the public hearing. Written comments on the proposed rule must be postmarked by November 13, 2006, which is the closing date for the comment period, as specified in the proposal for the rule. However, the record will remain open until December 6, 2006, to allow 30 days for submittal of additional information related to the hearing.

Commenters should notify Ms. Long if they will need specific equipment, or if there are other special needs related to providing comments at the hearing. The EPA will provide equipment for commenters to show overhead slides or make computerized slide presentations if we receive special requests in advance. Oral testimony will be limited to 5 minutes for each commenter. The EPA encourages commenters to provide EPA with a copy of their oral testimony electronically (via e-mail, computer disk, or CD) or in hard copy form.

The hearing schedule, including lists of speakers, will be posted on EPA's Web site http://www.epa.gov/nsr/. Verbatim transcripts of the hearing and written statements will be included in the docket for the rulemaking.

How Can I Get Copies of This Document and Other Related Information?

The EPA has established the official public docket for the proposed rule entitled “Prevention of Significant Deterioration (PSD) and Nonattainment New Source Review (NSR): Debottlenecking, Aggregation, and Project Netting” under Docket ID No. EPA-HQ-OAR-2003-0064. Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to www.regulations.gov are not affected by the flooding and will remain the same.

As stated previously, the proposed rule was published in the Federal Register on September 14, 2006 (71 FR 54235) and is available at http://a257.g.akamaitech.net/7/257/2422/01jan20061800/edocket.access.gpo.gov/2006/pdf/E6-15248.pdf.

Dated: October 11, 2006.
Jeffrey S. Clark,
Acting Director, Office of Air Quality Planning and Standards.

[FR Doc. 06-8842 Filed 10-20-06; 8:45 am]

BILLING CODE 6560-50-P